DEPARTMENT OF HOMELAND SECURITY

U.S. Customs and Border Protection

[Docket No. USCBP-2014-0023]

Notice of Meeting of the U.S. Customs and Border Protection Airport and Seaport Inspections User Fee Advisory Committee (UFAC)

AGENCY: U.S. Customs and Border Protection, Department of Homeland Security (DHS).

ACTION: Notice of Federal Advisory Committee meeting.

SUMMARY: The U.S. Customs and Border Protection Airport and Seaport Inspections User Fee Advisory Committee (UFAC) will meet Friday, August 29, 2014, from 1:00 to 2:00 p.m. EST via teleconference. The meeting will be open to the public.

DATES: The User Fee Advisory Committee (UFAC) meeting will take place from 1:00 to 2:00 p.m. EST on Thursday, August 28, 2014, via teleconference. Please be advised that the meeting is scheduled for one hour and that the meeting may close early if the committee completes its business.

Registration: If you plan on participating, you must provide your full legal name, email address, and phone number no later than 5:00 p.m. EST on August 26, 2014, via email to tradeevents@dhs.gov, via phone at 202-344-1440, or online at https://apps.cbp.gov/te_reg/index.asp?w=26. The teleconference call details will be provided to registered members of the public via email or by phone if email is not available. All members of the public wishing to attend should promptly call in at the beginning of the teleconference.

If you have completed an online registration and wish to cancel your registration, you may do so at https://apps.cbp.gov/te_reg/cancel.asp?w=26. Please feel free to share this information with interested members of your organizations or associations.

ADDRESSES: The meeting will be held via teleconference. Members of the public interested in attending this teleconference meeting may do so by following the process outlined below (see “Public Participation”). Written comments submitted prior to the meeting must be received by August 26, 2014. Comments must be identified by USCBP-2014-0023 and may be submitted by one of the following methods:

• Federal eRulemaking Portal: http://www.regulations.gov. Follow the instructions for submitting comments.

• Email: tradeevents@dhs.gov. Include the docket number in the subject line of the message.

• Fax: 202-325-4290.

• Mail: Ms. Wanda Tate, Office of Trade Relations, U.S. Customs and Border Protection, Department of Homeland Security, 1300 Pennsylvania Avenue NW., Room 3.5-A, Washington, DC 20229.

Instructions: All submissions received must include the words “Department of Homeland Security” and the docket number for this action. Comments received will be posted without alteration at www.regulations.gov, including any personal information provided.

Docket: For access to the docket to read background documents or comments received by the User Fee Advisory Committee, go to http://www.regulations.gov and insert the docket number for this action in the search field.

FOR FURTHER INFORMATION CONTACT: Ms. Wanda Tate, Office of Trade Relations, U.S. Customs and Border Protection, Department of Homeland Security, 1300 Pennsylvania Avenue NW., Room 3.5-A, Washington, DC 20229; tradeevents@dhs.gov; telephone 202-344-1440; facsimile 202-325-4290.

SUPPLEMENTARY INFORMATION: Pursuant to the Federal Advisory Committee Act (5 U.S.C. App.), the Department of Homeland Security hereby announces the meeting of the U.S. Customs and Border Protection Airport and Seaport Inspections User Fee Advisory Committee (UFAC). The User Fee Advisory Committee is tasked with providing advice to the Secretary of Homeland Security (DHS) through the Commissioner of U.S. Customs and Border Protection (CBP) on matters related to the performance of airport and seaport inspections coinciding with the assessment of an agriculture, customs, or immigration user fees. The teleconference meeting of the User Fee Advisory Committee will be held on the date and time specified above. During the meeting, the User Fee Advisory Committee will create two new subcommittees: The Financial Assessment and Options Subcommittee and the Processes Subcommittee. The Financial Assessment and Options Subcommittee will be responsible for providing Customs and Border Protection an overview of current worldwide user fees being paid by industry, mapping how industry collects and transmits user fees to Customs and Border Protection, and discussing the option of having a third party study that would improve the committee and Customs and Border Protection's understanding of the universe of Customs and Border Protection's budget, costs, and funding sources. The Processes Subcommittee will be responsible for developing advice that would enhance Customs and Border Protection operational efficiencies.

Public Participation: This meeting is open to the public; however, participation in User Fee Advisory Committee deliberations is limited to committee members and Department of Homeland Security officials. Please note that the meeting may close early if all business is finished. Members of the public may register online to attend this User Fee Advisory Committee teleconference meeting as per the instructions set forth above.

Information on Services for Individuals With Disabilities: For information on facilities or services for individuals with disabilities or to request special assistance at the meeting, contact Ms. Wanda Tate as soon as possible.

Dated: August 7, 2014.
Maria Luisa Boyce,
Senior Advisor for Private Sector Engagement, Office of Trade Relations, U.S. Customs and Border Protection.

[FR Doc. 2014-19110 Filed 8-12-14; 8:45 am]

BILLING CODE 9111-14-P